DEPARTMENT OF COMMERCE

National Oceanic and Atmospheric Administration

50 CFR Part 648

[I.D. 112701C]

Fisheries of the Northeastern United States; Northeast Monkfish Fishery; Scoping Process

AGENCY: National Marine Fisheries Service (NMFS), National Oceanic and Atmospheric Administration (NOAA), Commerce.

ACTION: Notification of intent to prepare a Supplemental Environmental Impact Statement (SEIS) and notice of scoping process; request for comments.

SUMMARY: The New England and Mid-Atlantic Fishery Management Councils (Councils) announce their intent to prepare Amendment 2 to the Monkfish Fishery Management Plan (FMP) and to prepare an SEIS in accordance with the National Environmental Policy Act (NEPA) to analyze the impacts of any proposed management measures on the human environment. The Councils, with New England Council having the lead authority, jointly manage the fishery. The amendment would be developed pursuant to the Magnuson-Stevens Fishery Conservation and Management Act (Magnuson-Stevens Act). The Councils also formally announce the initiation of a public process to determine the scope of issues to be addressed in the environmental impact statement (EIS). The purpose of this notice is to alert the interested public of the scoping process and to provide for public participation in compliance with NEPA.

DATES: The Councils will discuss and take scoping comments at public meetings in January and February 2002. See SUPPLEMENTARY INFORMATION for specific dates and times. Written scoping comments must be received on or before 5 p.m. local time, February 11, 2002.

ADDRESSES: Written comments and requests for copies of the scoping document and other information should be directed to Paul J. Howard, Executive Director, New England Fishery Management Council, 50 Water Street, Newburyport, MA, 01950, Telephone (978) 465-0492. Comments may also be submitted via facsimile (fax) to (978) 465-3116. Comments and requests for information should be marked “Monkfish Amendment 2.” The Council will not accept unsigned faxes or comments by email.

FOR FURTHER INFORMATION CONTACT: Contact Paul J. Howard, Executive Director, telephone (978) 465-0492.

SUPPLEMENTARY INFORMATION:

Background

The FMP, implemented November 8, 1999 (64 CFR 54732, October 7, 1999), contains management programs for the Northern and Southern Fishery Management Areas (NFMA and SFMA, respectively) based on incremental reductions in fishing mortality rates to stop overfishing and rebuild monkfish stocks by 2009. The FMP calls for elimination of the directed fishery for monkfish in Year 4, starting May 1, 2002, unless a plan review during Year 3 indicates that the Councils should use another management measure. The 31st Northeast Regional stock Assessment Workshop SAW 31) conducted by NMFS in 2000 concluded that the current proxy-based biological reference points on which the plan is based are unreliable, and that current fishing mortality rates could not be reliably estimated. Based on this assessment, the Councils are considering a 1-year delay in the Year 4 default measures.

A new assessment, scheduled for January, 2002 will address many of the issues raised at SAW 31, and incorporate data collected during a cooperative survey with the monkfish industry in the spring of 2001. The Councils intend to consider this new scientific information and take appropriate action to modify the FMP so that the goal of rebuilding the stocks can be achieved by 2009.

In addition, while the Councils were developing the original Monkfish FMP, a new fishery for monkfish emerged in the waters south of the North Carolina/Virginia border. Some vessels from that area began participating in the fishery shortly after publication of a notice of control date for limited entry into the Atlantic monkfish fishery on February 27, 1995 (60 FR 10574). These vessels did not hold any northeast fishery permits and, therefore, did not receive timely notice of the actions related to the monkfish fishery being considered by the Councils. Although the management unit for the FMP was initially defined as ending at the North Carolina/Virginia border, which would have excluded those vessels from the FMP provisions, the boundary was shifted southward (to the North Carolina/South Carolina border) during the development of the FMP. Meanwhile, the public hearing document mistakenly retained the original management unit definition with the North Carolina/Virginia boundary as its Southern border. As a result of the circumstances described above, a number of vessels failed to qualify for limited access permits. Because of some confusion regarding the correct southern boundary line, the Councils are considering options for addressing this issue in Amendment 2.

Third, in response to a U.S. District Court Order (AOC v. Daley, September 14, 2000), NMFS and the Councils are re-evaluating the essential fish habitat (EFH) components of the FMP. NMFS has already initiated scoping on this matter (66 FR 46979, September 10, 2001) and the Councils will consider scoping comments submitted in that process when preparing Amendment 2. NMFS and the Councils will jointly develop EFH analysis and management alternatives to minimize adverse effects of fishing activities on EFH for consideration in the FMP.

Scoping Process

The public will have an opportunity to provide oral comments at the January meetings of the Councils and may submit written comments through February 11, 2002 [see DATES and ADDRESSES]. The New England Council meeting is scheduled for January 15-17, 2002 at the Courtyard by Marriott, Portsmouth, NH and the Mid-Atlantic Council meeting for January 29-31 at the Meadowlands Plaza Hotel, Secaucus, NJ. The Councils will notify the public of the specific times on the agendas where the public scoping comments will be heard when those agendas are finalized.

All persons affected by, or otherwise interested in monkfish fisheries management, are invited and encouraged to participate in this process, and to assist the Councils in developing the scope of issues to be considered and alternatives to be analyzed in the SEIS. The Councils will also use the scoping process to identify and eliminate from consideration issues that are not significant.

Authority: 16 U.S.C. 1801 et seq.

Dated: December 4, 2001.
Valerie L. Chambers,
Acting Director, Office of Sustainable Fisheries, National Marine Fisheries Service.

[FR Doc. 01-30464 Filed 12-7-01; 8:45 am]

BILLING CODE 3510-22-S